DEPARTMENT OF COMMERCE

International Trade Administration

[A-565-801]

Stainless Steel Butt-Weld Pipe Fittings From the Philippines: Final Results of Antidumping Duty Administrative Review and Final Determination of No Shipments; 2021-2022

AGENCY: Enforcement and Compliance, International Trade Administration, Department of Commerce.

SUMMARY: The U.S. Department of Commerce (Commerce) determines that there were no shipments of merchandise subject to the antidumping duty (AD) order on stainless steel butt-weld pipe fittings (SSBWF) from the Philippines during the period of review (POR) February 1, 2021, through January 31, 2022, from any of the companies under review.

DATES: Applicable February 24, 2023.

FOR FURTHER INFORMATION CONTACT: Mark Flessner, AD/CVD Operations, Office VI, Enforcement and Compliance, International Trade Administration, U.S. Department of Commerce, 1401 Constitution Avenue NW, Washington, DC 20230; telephone: (202) 482-6312.

SUPPLEMENTARY INFORMATION:

Background

On November 7, 2022, Commerce published its Preliminary Results of the administrative review of the Order.¹ No parties commented on the Preliminary Results.

¹ See Stainless Steel Butt-Weld Pipe Fittings from the Philippines: Preliminary Results of Antidumping Duty Administrative Review and Preliminary Determination of No Shipments; 2021-2022, 87 FR 67014 (November 7, 2022) (Preliminary Results); see also Antidumping Duty Orders: Stainless Steel Butt-Weld Pipe Fittings from Italy, Malaysia, and the Philippines, 66 FR 11257 (February 23, 2001) (Order).

Scope of the Order

For purposes of this Order, the product covered is certain stainless steel butt-weld pipe fittings (butt-weld fittings). Butt-weld pipe fittings are under 14 inches in outside diameter (based on nominal pipe size), whether finished or unfinished. The product encompasses all grades of stainless steel and “commodity” and “specialty” fittings. Specifically excluded from the definition are threaded, grooved, and bolted fittings, and fittings made from any material other than stainless steel. The butt-weld fittings subject to this Order are generally designated under specification ASTM A403/A403M, the standard specification for Wrought Austenitic Stainless Steel Piping Fittings, or its foreign equivalents (e.g., DIN or JIS specifications). This specification covers two general classes of fittings, WP and CR, of wrought austenitic stainless steel fittings of seamless and welded construction covered by the latest revision of ANSI B16.9, ANSI B16.11, and ANSI B16.28. Butt-weld fittings manufactured to specification ASTM A774, or its foreign equivalents, are also covered by this Order.

This Order does not apply to cast fittings. Cast austenitic stainless steel pipe fittings are covered by specifications A351/A351M, A743/743M, and A744/A744M.

The butt-weld fittings subject to this Order are currently classifiable under subheadings 7307.23.00.30 and 7307.23.00.90 of the Harmonized Tariff Schedule of the United States (HTSUS). Although the HTSUS subheadings are provided for convenience and customs purposes, the written description of the scope of this Order is dispositive.

Methodology

Based on information obtained from U.S. Customs and Border Protection (CBP), Commerce preliminarily determined that there were no shipments of merchandise subject to the Order from the following companies during the POR: (1) E N Corporation; (2) Enlin Steel Corporation; and (3) Vinox Corporation (a/k/a Vinoc Corporation).² Given that the record evidence shows that there are no suspended entries of subject merchandise during the POR from the three companies under review, Commerce did not calculate or otherwise determine any weighted-average dumping margins; nor did Commerce revise the cash deposit rate for these three companies in the Preliminary Results.

² See Preliminary Results, 87 FR at 67015.

As we received no comments on the Preliminary Results, we are making no changes for these final results of review. Therefore, based on information obtained from CBP, we continue to find that during the POR there were no shipments of merchandise subject to the Order from the three companies under review. Nevertheless, as noted in the Preliminary Results, we forwarded an allegation to CBP from Core Pipe Products, Inc. and Taylor Forge Stainless Inc. (the petitioners), regarding certain entries during the POR that could have been misreported by one of the companies under review.

Assessment

Upon issuance of these final results, Commerce will determine, and CBP shall assess, AD duties on all appropriate entries in accordance with 19 CFR 351.212(b)(1). For any entries found to be associated with the three companies under review, we will instruct CBP to liquidate such entries at the all-others rate if there is no rate for the intermediate company(ies) involved in the transaction, consistent with Commerce's reseller policy.³

³ See Antidumping and Countervailing Duty Proceedings: Assessment of Antidumping Duties, 68 FR 23954 (May 6, 2003).

Commerce intends to issue assessment instructions to CBP no earlier than 35 days after the date of publication of this notice in the Federal Register. If a timely summons is filed at the U.S. Court of International Trade, the assessment instructions will direct CBP not to liquidate relevant entries until the time for parties to file a request for a statutory injunction has expired (i.e., within 90 days of publication).

Cash Deposit Requirements

The following cash deposit requirements will be effective for all entries of SSBWF from the Philippines entered, or withdrawn from warehouse, for consumption on or after the date of publication of this notice in the Federal Register, as provided for by section 751(a)(2)(C) of the Tariff Act of 1930, as amended (the Act): (1) if a company-specific weighted-average dumping margin was previously established in a completed segment of this proceeding for any of the three companies listed above, then the cash deposit rate will continue to be equal to the company-specific weighted-average dumping margin established for the company in the most recently completed segment (except, if the rate is de minimis, i.e., less than 0.5 percent, then the cash deposit rate will be zero percent); (2) for merchandise exported by a company not covered in this review but covered in a prior completed segment of the proceeding, the cash deposit rate will continue to be the company-specific rate published for that company in the most recently completed segment of this proceeding in which the company was included; (3) if the exporter of the subject merchandise does not have its own rate but the producer has its own rate, the cash deposit rate will be the company-specific rate established in the most recently completed segment of the proceeding for the producer of the subject merchandise; and (4) the cash deposit rate for all other producers or exporters will continue to be 33.81 percent, the all-others rate established in the less-than-fair-value investigation.⁴

⁴ See Notice of Final Determination of Sales at Less Than Fair Value: Stainless Steel Butt-Weld Pipe Fittings from the Philippines, 65 FR 81823 (December 27, 2000).

These cash deposit requirements, when imposed, shall remain in effect until further notice.

Notification to Importers

This notice also serves as a final reminder to importers of their responsibility under 19 CFR 351.402(f) to file a certificate regarding the reimbursement of antidumping duties prior to liquidation of the relevant entries during this review period. Failure to comply with this requirement presumption that reimbursement of antidumping duties occurred and the subsequent assessment of double antidumping duties.

Notification to Interested Parties

These final results are issued and published in accordance with sections 751(a)(1) and 777(i)(1) of the Act, and 19 CFR 351.213(h)(1).

Dated: February 21, 2023.
Abdelali Elouaradia,
Deputy Assistant Secretary for Enforcement and Compliance.

[FR Doc. 2023-03894 Filed 2-23-23; 8:45 am]

BILLING CODE 3510-DS-P